DEPARTMENT OF TRANSPORTATION

Federal Aviation Administration

Commercial Space Transportation Advisory Committee—Open Meeting

AGENCY: Federal Aviation Administration (FAA), DOT.

ACTION: Notice of Commercial Space Transportation Advisory Committee open meting. [Please Note: New Location for COMSTAC meeting]

SUMMARY: Pursuant to section 10(a)(2) of the Federal Advisory Committee Act (Pub. L. 92-463, 5 U.S.C. App. 2), notice is hereby given of a meeting of the Commercial Space Transportation Advisory Committee (COMSTAC). The meeting will take place on Thursday, October 31, 2002, from 8 a.m. to 4:30 p.m. at the Holiday Inn-Capitol, 500 C Street SW, Washington, DC, in the Columbia Room. This will be the thirty-sixth meeting of the COMSTAC.

The agenda for the meeting will include an industry update on the Evolved Expendable Launch Vehicle program; a special presentation on The States and Space; and an activities report from FAA's Associate Administrator for Commercial Space Transportation (formerly the Office of Commercial Space Transportation [60 FR 62762, December 7, 1995]). Meetings of the COMSTAC Working Groups (Technology and Innovation, Reusable Launch Vehicle, Risk Management, and Launch Operations and Support) will be held on Wednesday, October 30, 2002. For specific information concerning the times and locations of these meetings, contact the Contact Person listed below.

Individuals who plan to attend and need special assistance, such as sign language interpretation or other reasonable accommodations, should inform the Contact Person listed below in advance of the meeting.

FOR FURTHER INFORMATION, CONTACT: Brenda Parker (AST-200), Office of the Associate Administrator for Commercial Space Transportation (AST), 800 Independence Avenue SW, Room 331, Washington, DC 20591, telephone (202) 385-4713; E-mail brenda.parker@faa.dot.gov.

Issued in Washington, DC, September 12, 2002.
Patricia G. Smith,
Associate Administrator for Commercial Space Transportation.

[FR Doc. 02-23708 Filed 9-17-02; 8:45 am]

BILLING CODE 4910-13-P